DEPARTMENT OF COMMERCE

International Trade Administration

[A-570-916]

Laminated Woven Sacks From the People's Republic of China: Final Results of Antidumping Duty Administrative Review; 2012-2013

AGENCY: Enforcement and Compliance, International Trade Administration, Department of Commerce.

SUMMARY: On February 27, 2014, the Department of Commerce (the “Department”) published the Preliminary Results ¹ of the 2012-2013 administrative review of the antidumping duty order on laminated woven sacks (“sacks”) from the People's Republic of China (“PRC”). The period of review (“POR”) is August 1, 2012, through July 31, 2013. We gave interested parties an opportunity to comment on the Preliminary Results, but we received none. The final weighted-average dumping margin for the PRC-wide entity is listed in the “Final Results of Review” section below.

¹ See Laminated Woven Sacks From the People's Republic of China: Preliminary Results of Antidumping Duty Administrative Review; 2012-2013, 79 FR 11075 (February 27, 2014) (“Preliminary Results”).

DATES: Effective Date: June 16, 2014.

FOR FURTHER INFORMATION CONTACT: Irene Gorelik, AD/CVD Operations, Office V, Enforcement and Compliance, International Trade Administration, Department of Commerce, 14th Street and Constitution Avenue NW., Washington, DC 20230; telephone: (202) 482-6905.

SUPPLEMENTARY INFORMATION:

Background

We received no comments from interested parties on our Preliminary Results which published on February 27, 2014. The Department conducted this administrative review in accordance with section 751(a) of the Tariff Act of 1930, as amended (“the Act”).

Scope of the Order

The merchandise covered by the order is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics; ² printed with three colors or more in register; with or without lining; whether or not closed on one end; whether or not in roll form (including sheets, lay-flat tubing, and sleeves); with or without handles; with or without special closing features; not exceeding one kilogram in weight. Laminated woven sacks are typically used for retail packaging of consumer goods such as pet foods and bird seed.

² “Paper suitable for high quality print graphics,” as used herein, means paper having an ISO brightness of 82 or higher and a Sheffield Smoothness of 250 or less. Coated free sheet is an example of a paper suitable for high quality print graphics.

Effective July 1, 2007, laminated woven sacks are classifiable under Harmonized Tariff Schedule of the United States (“HTSUS”) subheadings 6305.33.0050 and 6305.33.0080. Laminated woven sacks were previously classifiable under HTSUS subheading 6305.33.0020. If entered with plastic coating on both sides of the fabric consisting of woven polypropylene strip and/or woven polyethylene strip, laminated woven sacks may be classifiable under HTSUS subheadings 3923.21.0080, 3923.21.0095, and 3923.29.0000. If entered not closed on one end or in roll form (including sheets, lay-flat tubing, and sleeves), laminated woven sacks may be classifiable under other HTSUS subheadings including 3917.39.0050, 3921.90.1100, 3921.90.1500, and 5903.90.2500. If the polypropylene strips and/or polyethylene strips making up the fabric measure more than 5 millimeters in width, laminated woven sacks may be classifiable under other HTSUS subheadings including 4601.99.0500, 4601.99.9000, and 4602.90.0000. Although HTSUS subheadings are provided for convenience and customs purposes, the written description of the scope of the order is dispositive.

Preliminary Results

Upon initiation of the administrative review, we provided the opportunity for all companies upon which the review was initiated to submit either a “no shipment” certification or the separate rate application or certification.³ Of the nine companies under review, three companies had a separate rate from a prior segment ⁴ but did not file a “no shipment” certification or a separate rate certification on the record of this review.⁵ Consequently, these three companies have not provided any documentation supporting their continued eligibility for a separate rate. Thus, we now consider them to be part of the PRC-wide entity, pursuant to our practice.⁶ The other six companies under review in this segment did not have a separate rate from a prior segment of the proceeding. Because these companies neither established their eligibility for a separate rate through a separate rate application nor filed “no shipment” certifications, the Department will continue to treat these six companies as part of the PRC-wide entity.⁷

³ See Initiation of Antidumping and Countervailing Duty Administrative Reviews and Request for Revocation, in Part, 78 FR 60834, 60836 (October 2, 2013).

⁴ These three companies are: Cangnan Color Make the Bag, Jiangsu Hotsun Plastics, and Polywell Industrial Co. We note that these three companies received their separate rates in the underlying investigation and have not been under review since the investigation. See Laminated Woven Sacks from the People's Republic of China: Final Determination of Sales at Less Than Fair Value and Partial Affirmative Determination of Critical Circumstances, 73 FR 35646, 35648 (June 24, 2008).

⁵ The Department notes that a company's eligibility for a separate rate necessarily requires reviewable entries from that company during the relevant period. See Certain Frozen Warmwater Shrimp From the Socialist Republic of Vietnam: Final Results of Antidumping Duty Administrative Review, 2011-2012, 78 FR 56211 (September 12, 2013) and accompanying Issues and Decision Memorandum at Comment 11, where the Department stated that “a company that did not export subject merchandise to the United States during the relevant period is likewise not eligible for a separate rate, because it has no reviewable POR entries and, thus, is not subject to the review (including the determination of a separate rate status);” see also Policy Bulletin 5.1: Separate-Rates Practice and Application of Combination Rates in Antidumping Investigations involving Non-Market Economy Countries, dated April 5, 2005 found at: http://enforcement.trade.gov/policy/bull05-1.pdf; see also Separate Rate Certification at page 2; found at: http://enforcement.trade.gov/nme/sep-rate-files/20121031/srv-sr-cert-20121031.pdf.

⁶ See, e.g., Honey From the People's Republic of China: Preliminary Results and Partial Rescission of Antidumping Duty Administrative Review; 2011-2012, 78 FR 38941 (June 28, 2013) and accompanying Preliminary Decision Memorandum at page 3 (“Honey 2011-2012 Preliminary Results”) (“during the review, Dongtai Peak did not file a separate rate application or certification, nor did it file a no shipments certification. Accordingly, because Dongtai Peak did not demonstrate its eligibility for a separate rate, the Department will preliminarily treat Dongtai Peak as part of the PRC-wide Entity.”), unchanged in Honey From the People's Republic of China: Final Results of Antidumping Duty Administrative Review; 2011-2012 (“Honey 2011-2012 Final Results”), 78 FR 56860 (September 16, 2013); see also Steel Wire Garment Hangers From the People's Republic of China: Preliminary Results of Antidumping Duty Administrative Review and New Shipper Review; 2011-2012, 78 FR 70271, 70272 (November 25, 2013).

⁷ See, e.g., Honey 2011-2012 Preliminary Results and accompanying Preliminary Decision Memorandum at 3, unchanged in Honey 2011-2012 Final Results, 78 FR at 56860.

PRC-Wide Entity Rate

In the Preliminary Results, we stated that the Department conducted a proceeding pursuant to section 129 of the Uruguay Round Agreements Act (“URAA”) regarding the antidumping and countervailing duty investigations of laminated woven sacks.⁸ Based on certain adjustments pursuant to section 777A(f) of the Act, the Department revised the PRC-wide entity rate from 91.73 percent, the only rate ever determined for the PRC-wide entity in this proceeding ⁹ to 47.64 percent.¹⁰ Consequently, in these final results, we are assigning a rate of 47.64 percent, as revised in the Section 129 Implementation, to the PRC-wide entity, which includes all nine companies initiated for review.

⁸ See Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683 (August 30, 2012) (“Section 129 Implementation”).

⁹ See, e.g., Laminated Woven Sacks From the People's Republic of China: Final Results of First Antidumping Duty Administrative Review, 76 FR 14906 (March 18, 2011).

¹⁰ See Section 129 Implementation, 77 FR at 52687-52688; see also Laminated Woven Sacks From the People's Republic of China: Final Results of Expedited First Sunset Review of the Antidumping Duty Order, 78 FR 64472 (October 29, 2013).

Final Results of Review

The Department determines that the following dumping margin exists for the period August 1, 2012, through July 31, 2013:

Exporter | Margin (percent)
PRC-Wide Entity ¹¹ | 47.64

¹¹ The PRC-Wide Entity includes: Cangnan Color Make the Bag; Han Shing Corporation Limited; Jiangsu Hotsun Plastics; Ningbo Yong Feng Packaging Co., Ltd.; Polywell Industrial Co.; Shandong Qilu Plastic Fabric Group, Ltd.; Shandong Shouguang Jianyuanchun Co.; Shandong Youlian Subian Co. Ltd.; and Zibo Aifudi Plastic Packaging Co., Ltd.

Assessment

Upon issuance of the final results, the Department will determine, and U.S. Customs and Border Protection (“CBP”) shall assess, antidumping duties on all appropriate entries. The Department intends to issue assessment instructions to CBP 15 days after the date of publication of the final results of review. The Department recently announced a refinement to its assessment practice in non-market economy (“NME”) cases.¹² Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.¹³

¹² See Non-Market Economy Antidumping Proceedings: Assessment of Antidumping Duties, 76 FR 65694 (October 24, 2011).

¹³ See id.

Cash Deposit Requirements

The following cash deposit requirements will be effective upon publication of the final results of this administrative review for all shipments of the subject merchandise from the PRC entered, or withdrawn from warehouse, for consumption on or after the publication date, as provided by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate of 47.64 percent; and (3) for all non-PRC exporters of subject merchandise which have not received their own rate, the cash deposit rate will be the rate applicable to the PRC exporters that supplied that non-PRC exporter. These deposit requirements, when imposed, shall remain in effect until further notice.

Notifications

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act.

Dated: June 10, 2014.
Paul Piquado,
Assistant Secretary for Enforcement and Compliance.

[FR Doc. 2014-14061 Filed 6-13-14; 8:45 am]

BILLING CODE 3510-DS-P